DEPARTMENT OF COMMERCE

International Trade Administration

Lafayette College; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave NW., Washington, DC.

Docket Number: 16-020. Applicant: Lafayette College, Easton, PA 18042. Instrument: High Power Q-Switched Diode-Pumped Solid State Laser. Manufacturer: EdgeWave GMBH, Germany. Intended Use: See notice at 81 FR 89434, December 12, 2016. Comments: None received. Decision: Approved. We know of no instruments of equivalent scientific value to the foreign instruments described below, for such purposes as this is intended to be used, that was being manufactured in the United States at the time of order. Reasons: The instrument will be used to study time-dependent finite chemical rate and mixing effects in turbulent combustion and the investigation of coherent structures in turbulent boundary layers. The instrument is approximately 10 times more powerful than any other high-repetition diode-pumped solid state available from a U.S. manufacturer. Techniques to be performed include Planar Laser Induced Fluorescence imaging, exploiting the high-repetition rate and tenability features of the instrument.

Dated: March 31, 2017.
Gregory W. Campbell,
Director, Subsidies Enforcement Office, Enforcement and Compliance.

[FR Doc. 2017-06824 Filed 4-5-17; 8:45 am]

BILLING CODE 3510-DS-P